ENVIRONMENTAL PROTECTION AGENCY

[FRL-8722-4]

Prevention of Significant Deterioration of Air Quality (PSD) Final Determinations in New Jersey, New York, Puerto Rico and the Virgin Islands

AGENCY: Environmental Protection Agency.

ACTION: Notice of final actions.

SUMMARY: The purpose of this notice is to announce that between December 1, 2004 and June 30, 2008, the Region 2 Office of the Environmental Protection Agency (EPA), issued 11 final determinations, the New Jersey Department of Environmental Protection (NJDEP) issued 2 final determinations and the New York State Department of Environmental Conservation (NYSDEC) issued 3 final determinations pursuant to the Prevention of Significant Deterioration of Air Quality (PSD) regulations codified at 40 CFR 52.21.

DATES: The effective dates for the above determinations are delineated in the chart at the end of this notice (see SUPPLEMENTARY INFORMATION).

FOR FURTHER INFORMATION CONTACT: Mr. Frank Jon, Environmental Engineer of the Permitting Section, Air Programs Branch, Division of Environmental Planning and Protection, Environmental Protection Agency, Region 2 Office, 290 Broadway, 25th Floor, New York, NY 10007-1866, at (212) 637-4085.

SUPPLEMENTARY INFORMATION: Pursuant to the PSD regulations, the Region 2 Office of the USEPA, the NJDEP, and the NYSDEC have made final PSD determinations relative to the facilities listed below:

Name | Location | Project | Agency | Final action | Date
Ecoelectrica, L.P | Peñuelas, Puerto Rico | Revision of existing PSD permit to include an updated ammonia slip monitoring method, some requirements related to auxiliary diesel generators, New Source Performance Standards (NSPS) related monitoring changes and a change affecting the timeline for reporting violations. These changes did not result in any increase in emissions or cause any adverse air quality impacts | EPA | PSD Administrative Amendment | February 11, 2005.
Amerada Hess Corp | Port Reading, New Jersey | Modifications to increase Fluid Catalytic Cracking Unit capacity by 4% from 62,500 barrels/day to 65,000 barrels/day. Additionally, Hess proposed a number of other projects and changes to provide for this increase in capacity and improve efficiency of operation and product quality | NJDEP | PSD Permit Revision | March 1, 2005.
Trigen-Nassau Energy Corporation | Uniondale, New York | A new 79.9 MW electric generating facility adjacent to the existing Trigen Central Utility Plant located in Uniondale, New York. The project consists of one General Electric (GE) LM6000 Sprint combustion turbine, a supplementally-fired heat recovery steam generator and a wet cooling tower. The turbine will primarily combust natural gas with low sulfur distillate oil as a backup and will be equipped with a selective catalytic reduction (SCR) system to control nitrogen oxide emissions and an oxidation catalyst to control emissions of carbon monoxide and volatile organic compounds and good combustion controls and low sulfur fuels to limit PM-10 emissions | EPA | New PSD Permit | March 31, 2005.
HOVENSA, L.L.C | Christiansted, U.S. Virgin Islands | Construction of a low sulfur fuels (LSF) unit and a hydrogen plant. Increase FCCU capacity from 150,000 BPD to 165,000 BPD. Modification of the existing petroleum refinery to produce gasoline and diesel meeting the new Tier 2 low sulfur gasoline and ultra low sulfur diesel requirements | EPA | PSD Permit Modification | July 21, 2005.
Besicorp-Empire Development Company, LLC | Rensselaer, New York | NYSDEC issued the original PSD permit on September 23, 2004. Due to financial reasons the company requested that the PSD permit be bifurcated into two separate, financially-independent facilities: (1) The Besicorp—Empire Power Generating Facility, a nominal 505 MW combined-cycle power plant; and (2) The Besicorp-Empire Recycled Newsprint Facility, a 330,000 metric ton-per-year recycled newsprint facility. This facility will also include an auxiliary boiler to supply steam for the processes | NYSDEC | PSD Permit Bifurcation | December 8, 2005.
Besicorp-Empire Power Company, LLC | Rensselaer, New York | A proposed 505 MW combined-cycle cogeneration power plant. PSD permit revision to extend the permit expiration date to March 23, 2007 | NYSDEC | PSD Permit Extension | May 1, 2006.
Besicorp-Empire Newsprint, LLC | Rensselaer, New York | A proposed 330,000 metric ton-per-year recycled newsprint facility. PSD permit revision to extend the permit expiration date to March 23, 2007 | NYSDEC | PSD Permit Extension | May 1, 2006.
Puerto Rico Electric Power Authority (PREPA)—Cambalache Plant | San Juan, Puerto Rico | Removal of the Selective Catalytic Reduction (SCR) system due to the production of ammonia in excess of 100 ppm. In addition, lower the permitted fuel bound nitrogen in the fuel oil from 0.1% to 0.55%; lower the permitted PM and PM10 emission rates based on actual stack test data; add a limit of 780 startups per year; and allow operational flexibility by replacing a spinning reserve limit of 2,000 hours for each of the three turbines with a limit of 6,000 hours of spinning reserve for all three turbines combined | EPA | PSD Permit Modification | July 5, 2006.
CEMEX de Puerto Rico, Inc (formerly known as Puerto Rico Cement) | San Juan, Puerto Rico | Replacement of the electrostatic precipitators (ESPs), the particulate controls for the kilns and associated equipment with baghouses. Co-combust tire derived fuel (TDF). These modifications will not result in any emission increases or have any effect on air quality | EPA | PSD Administrative Amendment | July 10, 2006.
Manchester Renewable Power Corporation | Manchester Township, New Jersey | Construction of six identical 2,233 brake horsepower, lean-burn reciprocating internal combustion engines and an electrical generator set (9.6 MW-Hour) | NJDEP | New PSD Permit | October 4, 2006.
Besicorp-Empire Power Company, LLC | Rensselaer, New York | A proposed 505 MW combined-cycle cogeneration power plant. PSD permit revision to extend the permit expiration date to March 23, 2008 | EPA | PSD Permit Extension | May 17, 2007.
Besicorp-Empire Newsprint, LLC | Rensselaer, New York | A proposed 330,000 metric ton-per-year recycled newsprint facility. PSD permit revision to extend the permit expiration date to March 23, 2008 | EPA | PSD Permit Extension | May 17, 2007.
HOVENSA, L.L.C | Christiansted, U.S. Virgin Islands | Construction of a selective catalytic reduction (SCR) system to control NOX from the low sulfur gasoline unit process heater and construction of an oxidation catalyst to control formaldehyde emissions from the combustion turbine. HOVENSA requested this modification due to changes in heater control efficiency guarantees and turbine model availability | EPA | PSD Permit Modification | November 27, 2007.
Cornell University | Ithaca, New York | New PSD permit to construct two 8 MW combined-cycle combustion turbine generators with supplemental firing at the central heating plant on the Cornell University campus | EPA | New PSD permit | June 3, 2008.
HOVENSA, L.L.C | Christiansted, U.S. Virgin Islands | The initial PSD permit issued on July 21, 2005 required HOVENSA to conduct a NOX minimization program study. Based on the findings of this study HOVENSA requested a change in the NOX limit for the FCCU. The original permit required a NOX limit of 44 ppmvd @ 0% O2 (365-day basis). This modification will reduce NOX from the FCCU to 25 ppmvd @ 0% O2 (365-day basis). NOX emissions from the facility will be decreasing while all other pollutant emissions will remain the same | EPA | PSD Administrative Amendment | June 5, 2008.

This notice lists only the facilities that have received final PSD determinations. Anyone who wishes to review these determinations and related materials should contact the following offices:

EPA Actions: U.S. Environmental Protection Agency, Region 2 Office, Air Programs Branch—25th Floor, 290 Broadway, New York, New York 10007-1866.

NJDEP Actions: New Jersey Department of Environmental Protection, Division of Environmental Quality, Air Quality Permitting Element, Bureau of Preconstruction Permits, 401 East State Street, Trenton, New Jersey 08625.

NYSDEC Actions: New York State Department of Environmental Conservation, Division of Air Resources, Bureau of Stationary Sources, 625 Broadway, Albany, New York 12233-3251.

If the prerequisite in 40 CFR 124.19(e) has been met, judicial review of these determinations under section 307(b)(1) of the Clean Air Act (the Act) may be sought only by the filing of a petition for review in the United States Court of Appeals for the appropriate circuit within 60 days from the date on which these determinations are published in the Federal Register. Under section 307(b)(2) of the Act, these determinations shall not be subject to later judicial review in civil or criminal proceedings for enforcement.

Dated: August 5, 2008.
Alan J. Steinberg,
Regional Administrator, Region 2.

[FR Doc. E8-22797 Filed 9-26-08; 8:45 am]

BILLING CODE 6560-50-P